DEPARTMENT OF ENERGY

Federal Energy Regulatory Commission

[Project Nos. 6168-024 & 7057-009]

B C Hydro, Inc., Highland Hydro Constructors of California, Inc., Shamrock Utilities, LLC; Notice of Transfer of Exemption

1. By letter filed January 23, 2017, Shamrock Utilities, LLC informed the Commission that the exemption from licensing for the Cedar Flat Project No. 6168, originally issued September 28, 1982 ¹ located on Mill Creek in Trinity County, California and occupies lands within Shasta-Trinity National Forest; and the Clover Leaf Ranch Project No. 7057, originally issued July 12, 1983 ² located on Clover Creek in Shasta County, California have been transferred to Shamrock Utilities, LLC. The transfer of an exemption does not require Commission approval.

¹ Order Granting Exemption from Licensing of a Small Hydroelectric Project of 5 MW or Less. Richard Bean and Fred Castagna, 20 FERC 62,550 (1982).

² Order Granting Exemption from Licensing of a Small Hydroelectric Project of 5 Megawatts or Less. Mega Hydro, Inc., 24 FERC 62,041.

2. Shamrock Utilities, LLC is now the exemptee of the Cedar Flat Project No. 6168 and the Clover Leaf Ranch Project No. 7057. All correspondence should be forwarded to: Theresa A. Ungaro, President/Owner, Shamrock Utilities, LLC, P. O. Box 859, Palo Cedro, CA 96073.

Dated: May 17, 2017.
Kimberly D. Bose,
Secretary.

[FR Doc. 2017-10516 Filed 5-22-17; 8:45 am]

BILLING CODE 6717-01-P